DEPARTMENT OF COMMERCE

National Oceanic and Atmospheric Administration

50 CFR Part 660

[Docket No. 030430108-3108-01; I.D. 042503A]

Fisheries Off West Coast States and in the Western Pacific; West Coast Salmon Fisheries; 2003 Management Measures; Correction

AGENCY: National Marine Fisheries Service (NMFS), National Oceanic and Atmospheric Administration (NOAA), Commerce.

ACTION: Final rule; request for comments; correction.

SUMMARY: NMFS announces a correction to the 2003 management measures for the West Coast salmon fisheries, which were published on May 6, 2003. An error in the northern boundary for the Commercial Season from “Pigeon Point, CA to the U.S.-Mexico Border” is corrected to the northern boundary of Point Arena, CA.

DATES: Effective from 0001 hours Pacific Daylight Time, May 1, 2003, until the effective date of the 2004 management measures, as published in the Federal Register. Comments must be received by May 21, 2003.

FOR FURTHER INFORMATION CONTACT: William L. Robinson at 206-526-6140, or Svein Fougner at 562-980-4040.

SUPPLEMENTARY INFORMATION: The 2003 management measures for ocean salmon fisheries at 68 FR 23913, May 6, 2003 [FR Doc. 03-11084 Filed 5-1-03; 10:53 am] announced the northern boundary for the commercial season from “Pigeon Point, CA to the U.S.-Mexico Border” incorrectly. The northern boundary of the area should be Point Arena, CA, as indicated in the Pacific Fishery Management Council's document “Preseason Report III Analysis of Council-Adopted Management Measures for 2003 Ocean Salmon Fisheries.”

Correction

Accordingly, the final rule, on May 6, 2003, at 68 FR 23913 is corrected as follows:

On page 23917, column 3, the heading of the third paragraph (starting with the first full paragraph), is corrected from, “Pigeon Point, CA to U.S.-Mexico Border” to read “Point Arena, CA to U.S.-Mexico Border.”

Authority: 16 U.S.C. et seq.

Dated: May 13, 2002.
John Oliver,
Deputy Assistant Administrator for Operations, National Marine Fisheries Service.

[FR Doc. 03-12467 Filed 5-16-03; 8:45 am]

BILLING CODE 3510-22-S